DEPARTMENT OF JUSTICE

Federal Bureau of Investigation

[OMB Number 1110-New]

Agency Information Collection Activities; Proposed eCollection eComments Requested; New Collection; Background Investigation Medical Release Forms

AGENCY: Federal Bureau of Investigation, Department of Justice.

ACTION: 30-Day notice.

SUMMARY: The Department of Justice, Federal Bureau of Investigation, is submitting the following information collection request to the Office of Management and Budget (OMB) for review and approval in accordance with the Paperwork Reduction Act of 1995.

DATES: The Department of Justice encourages public comment and will accept input until September 16, 2019.

FOR FURTHER INFORMATION CONTACT: If you have additional comments especially on the estimated public burden or associated response time, suggestions, or need a copy of the proposed information collection instrument with instructions or additional information, please contact Gabrielle Fournet, Unit Chief, Federal Bureau of Investigation, 935 Pennsylvania Avenue NW, Washington, DC, HQ-Div11-OGA1@FBI.gov, 202-651-2906.

Written comments and/or suggestions can also be sent to the Office of Management and Budget, Office of Information and Regulatory Affairs, Attention Department of Justice Desk Officer, Washington, DC 20503 or sent to OIRA_submissions@omb.eop.gov.

SUPPLEMENTARY INFORMATION: Written comments and suggestions from the public and affected agencies concerning the proposed collection of information are encouraged. Your comments should address one or more of the following four points:

Evaluate whether the proposed collection of information is necessary for the proper performance of the functions of the Federal Bureau of Investigation, including whether the information will have practical utility;

Evaluate the accuracy of the agency's estimate of the burden of the proposed collection of information, including the validity of the methodology and assumptions used;

Evaluate whether and if so how the quality, utility, and clarity of the information to be collected can be enhanced; and

Minimize the burden of the collection of information on those who are to respond, including through the use of appropriate automated, electronic, mechanical, or other technological collection techniques or other forms of information technology, e.g., permitting electronic submission of responses.

Overview of This Information Collection

1. Type of Information Collection: New Collection.

2. The Title of the Form/Collection: Background Investigation Medical Release Forms.

3. The agency form number, if any, and the applicable component of the Department sponsoring the collection: FD-1152 and FD-1153. The applicable component within the Department of Justice is the Federal Bureau of Investigation.

4. Affected public who will be asked or required to respond, as well as a brief abstract: This form is needed for obtaining medical information for non FBI personnel, for which the FBI has been requested to obtain medical release information. For instance, when the FBI has been requested to conduct background investigations on non-FBI employees applying for positions with other government agencies, sometimes medical information must be obtained. When it occurs, the non-FBI employee applying for the position is asked to complete the medical release form so the FBI has the authority to seek the medical information.

5. An estimate of the total number of respondents and the amount of time estimated for an average respondent to respond: It is estimated that not more than 50 people would need to complete this form in a year. It should only take each person about 15 minutes to complete the form.

6. An estimate of the total public burden (in hours) associated with the collection: There is an estimated 12.5 total annual burden hours associated with this collection.

If additional information is required contact: Melody Braswell, Department Clearance Officer, United States Department of Justice, Justice Management Division, Policy and Planning Staff, Two Constitution Square, 145 N Street NE, 3E.405A, Washington, DC 20530.

Dated: August 13, 2019.
Melody Braswell,
Department Clearance Officer for PRA, U.S. Department of Justice.

[FR Doc. 2019-17613 Filed 8-15-19; 8:45 am]

BILLING CODE 4410-02-P